DEPARTMENT OF THE INTERIOR

National Park Service

[NPS-WASO-NAGPRA-13636:PPWOCRADN0-PCU00RP14.R50000]

Notice of Inventory Completion: Colorado State University, Fort Collins, CO

AGENCY: National Park Service, Interior.

ACTION: Notice.

SUMMARY: Colorado State University has completed an inventory of human remains, in consultation with the appropriate Indian tribes or Native Hawaiian organizations, and has determined that there is no cultural affiliation between the human remains and any present-day Indian tribes or Native Hawaiian organizations. Representatives of any Indian tribe or Native Hawaiian organization not identified in this notice that wish to request transfer of control of these human remains should submit a written request to Colorado State University, Department of Anthropology. If no additional requestors come forward, transfer of control of the human remains to the Indian tribes or Native Hawaiian organizations stated in this notice may proceed.

DATES: Representatives of any Indian tribe or Native Hawaiian organization not identified in this notice that wish to request transfer of control of these human remains should submit a written request with information in support of the request to Colorado State University, Department of Anthropology at the address in this notice by September 16, 2013.

ADDRESSES: Christopher Green, Colorado State University, B-218 Clark Building, c/o Christopher Green, 1787 Campus Delivery, Fort Collins, CO 80525, telephone (970) 213-3060, email cg99@rams.colostate.edu.

SUPPLEMENTARY INFORMATION: Notice is here given in accordance with the Native American Graves Protection and Repatriation Act (NAGPRA), 25 U.S.C. 3003, of the completion of an inventory of human remains under the control of Colorado State University, Department of Anthropology, Fort Collins, CO. The human remains were removed near Lupton, in Apache County, AZ.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the Department of Anthropology at Colorado State University in consultation with representatives of the Arapaho Tribe of Wind River Reservation, Wyoming; Cheyenne & Arapaho Tribes, Oklahoma (previously listed as the Cheyenne-Arapaho Tribes of Oklahoma); Navajo Nation, Arizona, New Mexico & Utah; Pueblo of San Ildefonso, New Mexico; Southern Ute Indian Tribe of the Southern Ute Reservation, Colorado; and the Ute Mountain Tribe of the Ute Mountain Reservation, Colorado, New Mexico & Utah.

History and Description of the Remains

Sometime before 1991, human remains representing, at minimum, one individual were removed from an unknown site near Lupton in Apache County, AZ. Collection and archival research by Dr. Jason LaBelle and Dr. Ann Magennis between 2005 and 2010, failed to find any documentation regarding this individual. This case represents miscellaneous teeth fragments from one individual. No invasive investigation has been done to make any other determinations. No known individuals were identified. No associated funerary objects are present.

Determinations Made by the Colorado State University, Department of Anthropology

Officials of the Colorado State University, Department of Anthropology have determined that:

• Pursuant to 25 U.S.C. 3001(9), the human remains described in this notice are Native American based on the condition, the assemblage, and the age of the remains.

• Pursuant to 25 U.S.C. 3001(9), the human remains described in this notice represent the physical remains of one individual of Native American ancestry.

• Pursuant to 25 U.S.C. 3001(2), a relationship of shared group identity cannot be reasonably traced between the Native American human remains and any present-day Indian tribe.

• According to final judgments of the Indian Claims Commission or the Court of Federal Claims, the land from which the Native American human remains were removed is the aboriginal land of the Navajo Nation, Arizona, New Mexico & Utah.

• Treaties, Acts of Congress, or Executive Orders, indicate that the land from which the Native American human remains were removed is the aboriginal land of the Navajo Nation, Arizona, New Mexico & Utah.

• Pursuant to 43 CFR 10.11(c)(1), the disposition of the human remains may be to the Navajo Nation, Arizona, New Mexico & Utah.

Additional Requestors and Disposition

Representatives of any Indian tribe or Native Hawaiian organization not identified in this notice that wish to request transfer of control of these human remains should submit a written request with information in support of the request to Christopher Green, Colorado State University, B-218 Clark Building, c/o Christopher Green, 1787 Campus Delivery, Fort Collins, CO 80525, telephone (970) 213-3060, email cg99@rams.colostate.edu, by September 16, 2013. After that date, if no additional requestors have come forward, transfer of control of the human remains to the Navajo Nation, Arizona, New Mexico & Utah may proceed.

Colorado State University is responsible for notifying the Arapaho Tribe of Wind River Reservation, Wyoming; Cheyenne & Arapaho Tribes, Oklahoma (previously listed as the Cheyenne-Arapaho Tribes of Oklahoma); Navajo Nation, Arizona, New Mexico & Utah; Pueblo of San Ildefonso, New Mexico; Southern Ute Indian Tribe of the Southern Ute Reservation, Colorado; and the Ute Mountain Tribe of the Ute Mountain Reservation, Colorado, New Mexico & Utah that this notice has been published.

Dated: July 25, 2013.
David Tarler,
Acting Manager, National NAGPRA Program.

[FR Doc. 2013-19989 Filed 8-15-13; 8:45 am]

BILLING CODE 4312-50-P